DEPARTMENT OF EDUCATION

Notice Announcing Availability of Funds and Application Deadlines; Hurricane Education Recovery

AGENCY: Office of Elementary and Secondary Education, Department of Education.

ACTION: Notice.

SUMMARY: The Department of Education (Department) is issuing a notice announcing availability of funds and application deadlines for the Temporary Emergency Impact Aid for Displaced Students (Emergency Impact Aid) and the Assistance for Homeless Children and Youth programs under the Division B, Subdivision 1, Title VIII, “Hurricane Education Recovery,” of Public Law 115-123, the “Bipartisan Budget Act of 2018.”

DATES: Applications Available: April 25, 2018.

Deadline for Transmittal of State educational agency (SEA) Application for the Emergency Impact Aid program: May 25, 2018.

Deadline for Transmittal of State educational agency (SEA) Application for the Homeless Children and Youth program: May 25, 2018.

Deadline for local educational agencies (LEAs) to submit applications to SEAs under the Emergency Impact Aid program: May 15, 2018.

Deadline for LEAs to submit applications to SEAs under the Assistance for Homeless Children and Youth program: There is no statutory deadline for LEA applications under this program. Each eligible SEA will set a reasonable deadline for the submission of LEA applications.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: For additional information on the Emergency Impact Aid program, please contact Francisco Ramirez. Telephone (202) 260-1541. Email: K12EmergencyImpactAid@ed.gov. For additional information on the Assistance for Homeless Children and Youth program, please contact Peter Eldridge. Telephone (202) 260-2514. Email: HurricaneHomeless@ed.gov.

If you use a telecommunications device for the deaf (TDD) or a text telephone (TTY), call the Federal Relay Service (FRS), toll free, at 1-800-877-8339.

SUPPLEMENTARY INFORMATION:

Full Text of Announcement

I. Funding Opportunity Description

Purpose of Programs: Under the Emergency Impact Aid program, we will award grants to eligible SEAs to enable them to make emergency impact aid payments to eligible LEAs and eligible Bureau of Indian Education (BIE)—funded schools for the cost of educating during the 2017-2018 school year public and non-public school students displaced by Hurricanes Harvey, Irma, and Maria, or the 2017 California wildfires for which a major disaster or emergency has been declared under sections 401 or 501 of the Robert T. Stafford Disaster Relief and Emergency Assistance Act (42 U.S.C. 5170 and 5190) (covered disaster or emergency). Under the Assistance for Homeless Children and Youth program, we will award grants to eligible SEAs to enable them to provide financial assistance to LEAs serving homeless children and youth displaced by a covered disaster or emergency in order to address the educational and related needs of these students in a manner consistent with section 723 of the McKinney-Vento Homeless Assistance Act (McKinney-Vento Act) and with section 106 of title IV of division B of Public Law 109-148.

Background: This notice announces availability of funds and application deadlines for eligible applicants for two programs: (1) Emergency Impact Aid (CFDA number 84.938C) and (2) the Assistance for Homeless Children and Youth program (CFDA number 84.938B). The amounts awarded under each program will be based on demand and specific data received from eligible applicants.

Exemption from Rulemaking: These programs are exempt from the rulemaking requirements in section 437 of the General Education Provisions Act (GEPA) (20 U.S.C. 1232) and section 553 of the Administrative Procedure Act (APA) (5 U.S.C. 553), as established in Division B, Subdivision 1, Title VIII, “Hurricane Education Recovery” paragraph (6), of Public Law 115-123, the “Bipartisan Budget Act of 2018.” 132 Stat. 98.

Program Authority: Division B, Subdivision 1, Title VIII of Public Law 115-123, the “Bipartisan Budget Act of 2018.”

Note: An SEA seeking funding under Emergency Impact Aid and Assistance for Homeless Children and Youth programs must submit a separate application for each program. The data that the SEA provides in each application will be used by the Department to determine allocations under the respective programs.

Applicable Regulations: (a) The Education Department General Administrative Regulations (EDGAR) in 34 CFR parts 76, 77, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply for these programs.

II. Award Information

Estimated Available Funds under Emergency Impact Aid program (CFDA number 84.938C): Congress appropriated a combined amount of approximately $2.5 billion for both the Immediate Aid to Restart School Operations (CFDA number 84.938A) and Emergency Impact Aid programs. The amounts awarded under each program will be based on demand and on specific data received from eligible applicants.

Available Funds under the Assistance for Homeless Children and Youth program (CFDA number 84.938B): $25 million.

Period of Funding Availability under the Emergency Impact Aid program: SEAs, LEAs, and BIE-funded schools must obligate funds received under this program by December 31, 2018 for expenses incurred during the 2017-2018 school year. SEAs must return to the Department any funds that are not obligated by SEAs, LEAs, or BIE-funded schools by this deadline.

Period of Funding Availability under the Assistance for Homeless Children and Youth program: Grantees must expend funds within 24 months of the award date. We strongly encourage SEAs to make these funds available to LEAs at the earliest possible date and for LEAs to obligate the funds in a timely fashion to address the immediate needs of homeless students displaced by a covered disaster or emergency.

III. Eligibility Information

1. Eligible Applicants: SEAs in any State, including the District of Columbia, the Commonwealth of Puerto Rico, and each of the outlying areas.

2. Cost Sharing or Matching: These programs do not require cost sharing or matching.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: These programs are subject to Executive Order 12372 and the regulations in 34 CFR part 79. However, under 34 CFR 79.8(a), we waive intergovernmental review in order to make awards by the end of FY 2018.

V. Application Review Information

1. Student Enrollment Data for the Emergency Impact Aid program: In the Emergency Impact Aid application for SEA funding, we request quarterly data on the numbers of displaced students enrolled in public, non-public, and BIE-funded schools as of four different count dates. SEAs must report separate counts of displaced students with disabilities, displaced English learners without disabilities, and all other displaced students. The Department has identified four suggested quarterly count dates for identifying numbers of eligible displaced students: October 1, 2017; December 1, 2017; February 1, 2018; and April 1, 2018. SEAs may use these dates or select count dates that fall within a 21-day range for each of the quarters, that is, within 10 calendar days before or after these dates. Each SEA must select four specific dates for the quarterly counts and use those dates consistently for all applicants within the SEA.

SEAs must submit enrollment data for all four quarters of the 2017-18 school year, which may include estimated data for the fourth quarter, in their initial Emergency Impact Aid applications. SEAs that meet the initial deadline must provide any updated enrollment data generally and any unreported fourth quarter data for the 2017-18 school year by June 29, 2018.

We will use the enrollment data that are included in the SEA applications to make initial payments under the Emergency Impact Aid program.

We also are aware that it may take some time for SEAs and LEAs to count, retroactively for all four quarters of the 2017-18 school year, all eligible students, including students who subsequently may have moved to other States or LEAs. Therefore, SEAs and LEAs are encouraged to provide their best available estimates of eligible students for each count date in their initial applications, and, in the event that they collect more satisfactory data that were not available at the time of their initial application, to amend their applications if they need to make upward or downward revisions to their initial child counts. The Secretary will make appropriate upward or downward revisions to subsequent payments, or request a refund for any overpayment, based on the final data provided by an SEA. SEAs must submit any application amendments affecting allocations under the Emergency Impact Aid program to the Department no later than June 29, 2018.

2. Student Enrollment Data for the Assistance for Homeless Children and Youth program: In the Assistance for Homeless Children and Youth SEA application, we request data on: (1) The total number of displaced children and youth, as defined in the authorizing statute, enrolled in public schools in the State during the 2017-2018 school year; (2) the total number of displaced students enrolled in public school who are also homeless, as defined in section 725(2) of the McKinney-Vento Act; and (3) additional information on demonstrated need for funding, including data on the total number of homeless children and youth, as defined in section 725(2) of the McKinney-Vento Act, who were enrolled in public schools in the State during the 2017-18 school year, whose primary nighttime residence changed as a result of the covered disaster or emergency, and who do not meet the definition of displaced student.

We will use the data included in the SEA application to determine funding amounts.

3. Other Requirements for Emergency Impact Aid:

LEAs must make Emergency Impact Aid payments to accounts on behalf of displaced non-public school students within 14 calendar days of receiving payments from their SEAs.

The Secretary may solicit from any applicant at any time additional information needed to process an application for either program.

4. Special Funding Rule for Emergency Impact Aid:

In calculating funding under the Impact Aid Basic Support Payments program, authorized under section 7003 of the Elementary and Secondary Education Act of 1965 (20 U.S.C. 7703) for an eligible LEA that receives an Emergency Impact Aid payment, the Secretary shall not count displaced students served by such agency for whom an Emergency Impact Aid payment is received under this section, nor shall such students be counted for the purpose of calculating the total number of children in average daily attendance at the schools served by such agency as provided in section 7003(b)(3)(B)(i) of such Act (20 U.S.C. 7703(b)(3)(B)(i)).

5. Risk Assessment and Grant Conditions: Consistent with 2 CFR 200.205, before awarding grants under these programs the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

6. Additional Monitoring: The “Bipartisan Budget Act of 2018” designates this program to be “susceptible to significant improper payments” for purposes of the Improper Payments Information Act of 2002 (31 U.S.C. 3321 note). See Public Law 115-123, the “Bipartisan Budget Act of 2018,” Division B, Subdivision 1, Title XII, § 21208(a), Feb. 9, 2018; 132 Stat. 108. Under the statute, once any of these programs expends more than $10,000,000, it will result in additional requirements for grantees under the program, including making expenditure information and documentation available for review by the Department, starting with the Fiscal Year 2019 reporting period. We will provide additional information about this requirement after we make awards, providing advanced notice to ensure grantees understand their responsibilities for documenting all expenditures of Emergency Impact Aid and Homeless Children and Youth funds. We further note that, in general, these documentation requirements are identical to those ordinarily required for all Federal education program expenditures; the primary impact of the Improper Payments Information Act will be increased review of this documentation.

VI. Award Administration Information

1. Award Notices: If you receive a grant award under the Emergency Impact Aid or Assistance for Homeless Children and Youth program, we will notify your U.S. Representative and U.S. Senators and send you a Grant Award Notification (GAN); or we may send you an email containing a link to access an electronic version of your GAN. We may also notify you informally.

2. Reporting: (a) If you apply for a grant under these programs, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access to the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 20, 2018.
Jason Botel,
Principal Deputy Assistant Secretary Delegated the Authority to Perform the Functions and Duties of Assistant Secretary for Elementary and Secondary Education.

[FR Doc. 2018-08700 Filed 4-24-18; 8:45 am]

BILLING CODE 4000-01-P